DEPARTMENT OF HEALTH AND HUMAN SERVICES

Health Resources and Services Administration

Advisory Committee on Interdisciplinary, Community-Based Linkages Notice for Request for Nominations

AGENCY: Health Resources and Services Administration, HHS.

ACTION: Request for nominations.

SUMMARY: The Health Resources and Services Administration (HRSA) is requesting nominations to fill ten upcoming vacancies on the Advisory Committee on Interdisciplinary, Community-Based Linkages (ACICBL).

Authority: 42 U.S.C. 294f, section 757 of the Public Health Service (PHS) Act, as amended by the Affordable Care Act. The ACICBL is governed by the Federal Advisory Committee Act, Public Law (Pub. L.) 92-463, as amended (5 U.S.C. Appendix 2), which sets forth standards for the formation and use of advisory committees.

DATES: The Agency must receive nominations on or before October 30, 2010.

ADDRESSES: All nominations are to be submitted either by mail to Joan Weiss, PhD, RN, CRNP, Designated Federal Official, ACICBL, Division of Public Health and Interdisciplinary Education, Bureau of Health Professions (BHPr), Health Resources and Services Administration (HRSA), Parklawn Building, Room 9-36, 5600 Fishers Lane, Rockville, MD 20857 or e-mail to CAPT Norma J. Hatot at nhatot@hrsa.gov.

FOR FURTHER INFORMATION CONTACT: For additional information, contact CAPT Norma J. Hatot, Senior Program Officer, Division of Public Health and Interdisciplinary Education, BHPr, by e-mail at nhatot@hrsa.gov or telephone at (301) 443-2681. A copy of the current committee membership, charter and reports can be obtained by accessing the ACICBL Web site at http://bhpr.hrsa.gov/interdisciplinary/ACICBL.htm.

SUPPLEMENTARY INFORMATION: Under the authorities that established the ACICBL and the Federal Advisory Committee Act, HRSA is requesting nominations for ten committee members. The ACICBL provides advice and recommendations to the Secretary of Health and Human Services (Secretary) concerning policy, program development and other matters of significance related to interdisciplinary, community-based training grant programs authorized under sections 750-759, Title VII, Part D of the PHS Act, as amended. The ACICBL prepares an annual report describing its activities conducted during the fiscal year, including findings and recommendations made to enhance these Title VII programs. This annual report is submitted to the Secretary and ranking members of the Senate Committee on Health, Education, Labor and Pensions, and the House of Representatives Committee on Energy and Commerce. In addition, the ACICBL: (1) Develops, publishes, and implements performance measures for programs under this part; (2) Develops and publishes guidelines for longitudinal evaluations (as described in section 761 (d)(2) of the PHS Act) for programs under this part; and (3) Recommends appropriation levels for programs under this part.

The Department of Health and Human Services is requesting a total of ten nominations for members of the ACICBL who are health professionals from schools of the following types: (1) Accredited schools of medicine or osteopathic medicine or schools of nursing that provide interdisciplinary education with a focus on underserved areas; (2) Accredited schools of medicine or schools of osteopathic medicine that engage in interdisciplinary geriatric training; (3) Accredited schools that provide interdisciplinary, training in allied health, podiatric medicine (in preventive and primary care) or chiropractic medicine; and (4) Accredited schools that provide interdisciplinary, community based training in graduate clinical psychology, clinical social work, professional counseling, or marriage and family therapy.

HRSA has a special interest in the legislative requirements of having a fair balance among the health professionals, a balance between and members from urban and rural areas, a broad geographic distribution of members, and the adequate representation of women and minorities. HRSA encourages nominations of qualified candidates from these groups as well as individuals with disabilities.

To allow the Secretary to choose from a highly qualified list of potential candidates, more than one nomination is requested per open position. Interested persons may nominate one or more qualified persons for membership. Self-nominations are also accepted. Nominations must be typewritten. The following information should be included in the package of materials submitted for each individual being nominated: (1) A letter of nomination that clearly states the name and affiliation of the nominee, the basis for the nomination (i.e., specific attributes that qualify the nominee for service in this capacity), a statement that the nominee is willing to serve as a member of the ACICBL and appears to have no conflict of interest that would preclude this Committee membership. Potential candidates will be asked to provide detailed information concerning such matters as financial holdings, consultancies, research grants, and/or contracts to permit an evaluation of possible sources of conflicts of interest; and (2) the nominator's name, address, and daytime telephone number; the home/or work address, and telephone number; and e-mail address of the individual being nominated. HRSA prefers inclusion of a current copy of the nominee's curriculum vitae and a statement of interest from the nominee to support experience working with Title VII interdisciplinary, community-based training grant programs; expertise in the field; and personal desire in participating on a National Advisory Committee.

Members will receive a stipend for each official meeting day of the Committee, as well as per diem and travel expenses as authorized by section 5 U.S.C. 5703 for persons employed intermittently in Government service.

Appointments shall be made without discrimination on the basis of age, ethnicity, gender, sexual orientation, and cultural, religious, or socioeconomic status. Qualified candidates will be invited to serve a 3-year term.

Dated: September 15, 2010.
Sahira Rafiullah,
Director, Division of Policy and Information Coordination.

[FR Doc. 2010-23717 Filed 9-22-10; 8:45 am]

BILLING CODE 4165-15-P